POSTAL SERVICE

39 CFR Parts 961, 966

Rules of Practice Before the Judicial Officer

AGENCY: Postal Service.

ACTION: Proposed rule.

SUMMARY: This document proposes to amend the rules of practice prescribed by the Judicial Officer relative to debt collection proceedings against current and former postal employees. These amendments are necessary to implement a new electronic filing system.

DATES: Comments must be received on or before July 31, 2015.

ADDRESSES: Postal Service Judicial Officer Department, 2101 Wilson Boulevard, Suite 600, Arlington, VA 22201-3078.

FOR FURTHER INFORMATION CONTACT: Associate Judicial Officer Gary E. Shapiro, (703) 812-1910.

SUPPLEMENTARY INFORMATION:

A. Background

The Judicial Officer Department recently implemented an electronic filing system. Changes to the rules of practice concerning debt collection proceedings against current and former postal employees (39 CFR parts 961 and 966, respectively) are necessary to accommodate the new system, and to establish rules relative to that system. No other changes to the rules are proposed.

B. Explanation of Changes

Amendments to 39 CFR Part 961

In § 961.4, concerning filing a petition:

• Paragraph (a) is amended to identify the internet address for the electronic filing system.

• Paragraph (b) is amended to indicate that a sample petition is available through the electronic filing system.

In § 961.6, concerning the filing, docketing and serving of documents, paragraph (a) is amended to indicate when documents submitted by parties are considered received, and to indicate when service of documents on the opposing party is required for purposes of the electronic filing system.

Amendments to 39 CFR Part 966

In § 966.4, concerning filing a petition:

• Paragraph (c) is amended to identify the internet address for the electronic filing system.

• Paragraph (d) is amended to indicate that a sample petition is available through the electronic filing system.

In § 966.6, concerning the filing, docketing and serving of documents, paragraph (a) is amended to indicate when documents submitted by parties are considered received, and to indicate when service of documents on the opposing party is required for purposes of the electronic filing system.

List of Subjects

39 CFR Part 961

Claims, Government employees, Wages.

39 CFR Part 966

Administrative practice and procedure, Claims, Government employees, Wages.

Accordingly, for the reasons stated, the Postal Service proposes to amend 39 CFR parts 961 and 966 as follows:

PART 961—RULES OF PRACTICE IN PROCEEDINGS UNDER SECTION 5 OF THE DEBT COLLECTION ACT

1. The authority citation for 39 CFR part 961 continues to read as follows:

Authority: 39 U.S.C. 204, 401; 5 U.S.C. 5514.

2. In § 961.4, revise the first sentence of paragraph (a), and add a sentence at the beginning of paragraph (b) to read as follows:

§ 961.4 Employee petition for a hearing.

(a) If an employee desires a hearing, prescribed by section 5 of the Debt Collection Act, to challenge the Postal Service's determination of the existence or amount of a debt, or to challenge the involuntary repayment terms proposed by the Postal Service, the employee must file a written petition electronically at https://uspsjoe.justware.com/justiceweb, or by mail at Recorder, Judicial Officer Department, United States Postal Service, 2101 Wilson Blvd., Suite 600, Arlington, VA 22201-3078, on or before the fifteenth (15th) calendar day following the receipt of the Postal Service's “Notice of Involuntary Administrative Salary Offsets Under the Debt Collection Act.” * * *

(b) A sample petition is available through the Judicial Officer Electronic Filing Web site (https://uspsjoe.justware.com/justiceweb).* * *

* * * * *

3. Revise paragraph (a) of § 961.6 to read as follows:

§ 961.6 Filing, docketing and serving documents; computation of time; representation of parties.

(a) Filing. After a petition is filed, all documents relating to the Debt Collection Act hearing proceedings must be filed using the electronic filing system unless the Hearing Official permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours (Normal Recorder office business hours are between 8:45 a.m. and 4:45 p.m., Eastern Time). If both parties are participating via the electronic filing system, separate service upon the opposing party is not required. Otherwise, documents shall be served personally or by mail on the opposing party, noting on the document filed, or on the transmitting letter, that a copy has been so furnished.

* * * * *

PART 966—RULES OF PRACTICE IN PROCEEDINGS RELATIVE TO ADMINISTRATIVE OFFSETS INITIATED AGAINST FORMER EMPLOYEES OF THE POSTAL SERVICE

4. The authority citation for 39 CFR part 966 continues to read as follows:

Authority: 31 U.S.C. 3716; 39 U.S.C. 204, 401, 2601.

5. In § 966.4, revise paragraph (c), and add a sentence at the beginning of paragraph (d) to read as follows:

§ 966.4 Petition for a hearing and supplement to petition.

* * * * *

(c) Within thirty (30) calendar days after the date of receipt of the Accounting Service Center's decision upon reconsideration, after the expiration of sixty (60) calendar days after a request for reconsideration where a reconsideration determination is not made, or following an administrative offset taken without prior notice and opportunity for reconsideration pursuant to paragraph (b)(1) of this section, the former employee must file a written petition electronically at https://uspsjoe.justware.com/justiceweb, or by mail at Recorder, Judicial Officer Department, United States Postal Service, 2101 Wilson Blvd., Suite 600, Arlington, VA 22201-3078.

(d) A sample petition is available through the Judicial Officer Electronic Filing Web site (https://uspsjoe.justware.com/justiceweb).* * *

* * * * *

6. Revise paragraph (a) of § 966.6 to read as follows:

§ 966.6 Filing, docketing and serving documents; computation of time; representation of parties.

(a) Filing. After a petition is filed, all documents required under this part must be filed using the electronic filing system unless the Hearing Official permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours (Normal Recorder office business hours are between 8:45 a.m. and 4:45 p.m., Eastern Time). If both parties are participating via the electronic filing system, separate service upon the opposing party is not required. Otherwise, documents shall be served personally or by mail on the opposing party, noting on the document filed, or on the transmitting letter, that a copy has been so furnished.

* * * * *

Stanley F. Mires,
Attorney, Federal Compliance.

[FR Doc. 2015-16141 Filed 6-30-15; 8:45 am]

BILLING CODE 7710-12-P